DEPARTMENT OF HEALTH AND HUMAN SERVICES

Call for Comments on the Draft Report of the Adult Immunization Working Group to the National Vaccine Advisory Committee on Adult Immunization: Complex Challenges and Recommendations for Improvement; Correction

AGENCY: Department of Health and Human Services, Office of the Secretary, Office of the Assistant Secretary for Health, National Vaccine Program Office.

ACTION: Notice: correction.

SUMMARY: The Department of Health and Human Services published a notice in the Federal Register of March 4, 2011, announcing a call for comment on the draft report of the Adult Immunization Working Group to the National Vaccine Advisory Committee. It was announced that the draft report and recommendations could be found on the Web at http://www.hhs.gov/nvpo/nvac/subgroups/adultimmunization. The Web address where the draft report and recommendations can be found is http://www.hhs.gov/nvpo/nvac/subgroups/adultimmunization.html.

FOR FURTHER INFORMATION CONTACT: Ms. Lauren Wu, e-mail: lauren.wu@hhs.gov, phone: 202-690-1191.

Correction

In the Federal Register of March 4, 2011, Vol. 76, No. 43, on page 12118, in the first column, correct the ADDRESSES caption to read:

(1) The draft report and recommendations are available on the Web at http://www.hhs.gov/nvpo/nvac/subgroups/adultimmunization.html.

Dated: March 9, 2011.
Bruce Gellin,
Director, National Vaccine Program Office.

[FR Doc. 2011-5851 Filed 3-14-11; 8:45 am]

BILLING CODE 4150-44-P